DEPARTMENT OF ENERGY

[Case No. CD-004]

Energy Conservation Program for Consumer Products: Publication of the Petition for Waiver and Granting of the Application for Interim Waiver of the General Electric Company From the Department of Energy Clothes Dryer Test Procedures

AGENCY: Office of Energy Efficiency and Renewable Energy, Department of Energy.

ACTION: Notice of petition for waiver, granting of application for interim waiver, and request for comments.

SUMMARY: This notice announces receipt of and publishes the General Electric Company's (GE's) Petition for Waiver (hereafter, “petition”) from the U.S. Department of Energy (DOE) test procedure for determining the energy consumption of residential clothes dryers. The waiver request pertains to GE's specified single model line of condensing residential clothes dryers. The existing test procedure does not apply to condensing clothes dryers. In addition, today's notice grants GE an interim waiver from the DOE test procedures applicable to residential clothes dryers. DOE solicits comments, data, and information with respect to GE's petition.

DATES: DOE will accept comments, data, and information with respect to GE's Petition until, but no later than January 14, 2010.

ADDRESSES: You may submit comments, identified by case number CD-004, by any of the following methods:

• Federal eRulemaking Portal: http://www.regulations.gov. Follow the instructions for submitting comments.

• E-mail: AS_Waiver_Requests@ee.doe.gov. Include either the case number [CD-004], and/or “GE Clothes Dryer Petition” in the subject line of the message.

• Mail: Ms. Brenda Edwards, U.S. Department of Energy, Building Technologies Program, Mailstop EE-2J, Petition for Waiver Case No. CD-004, 1000 Independence Avenue, SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Instructions: All submissions received must include the agency name and case number for this proceeding. Submit electronic comments in WordPerfect, Microsoft Word, Portable Document Format (PDF), or text (American Standard Code for Information Exchange (ASCII)) file format. Avoid the use of special characters or any form of encryption. Wherever possible, include the electronic signature of the author. DOE does not accept telefacsimiles (faxes).

Pursuant to section 430.27(b)(1)(iv) of 10 CFR part 430, any person submitting written comments must also send a copy of the comments to the petitioner. The contact information for the petitioner is: Mr. Earl F. Jones, Senior Counsel, GE Consumer & Industrial, Appliance Park 2-225, Louisville, KY 40225.

Under 10 CFR 1004.11, any person submitting information that he or she believes to be confidential and exempt by law from public disclosure should submit two copies: one copy of the document including all the information believed to be confidential, and one copy of the document with the information believed to be confidential deleted. DOE will make its own determination about the confidential status of the information and treat it according to its determination.

Docket: For access to the docket to review the documents relevant to this matter, you may visit the U.S. Department of Energy, 950 L'Enfant Plaza, SW., (Resource Room of the Building Technologies Program), Washington, DC 20024, (202) 586-9127, between 9 a.m. and 4 p.m., Monday through Friday, except Federal holidays. Please call Ms. Brenda Edwards at (202) 586-2945 for additional information regarding visiting the Resource Room.

FOR FURTHER INFORMATION CONTACT: Dr. Michael G. Raymond, U.S. Department of Energy, Office of Energy Efficiency and Renewable Energy, Building Technologies Program, Mail Stop EE-2J, Forrestal Building, 1000 Independence Avenue, SW., Washington, DC 20585-0121, (202) 586-9611; e-mail: AS_Waiver_Requests@ee.doe.gov; Francine Pinto or Michael Kido, U.S. Department of Energy, Office of General Counsel, Mail Stop GC-72, Forrestal Building, 1000 Independence Avenue, SW., Washington, DC 20585-0121, (202) 586-9507; e-mail: Francine.Pinto@hq.doe.gov or Michael.Kido@hq.doe.gov.

SUPPLEMENTARY INFORMATION:

I. Background and Authority

II. Petition for Waiver

III. Application for Interim Waiver

IV. Summary and Request for Comments

I. Background and Authority

Title III of the Energy Policy and Conservation Act, as amended (“EPCA”) sets forth a variety of provisions concerning energy efficiency. Part A of Title III provides for the “Energy Conservation Program for Consumer Products Other Than Automobiles.” (42 U.S.C. 6291-6309) Part A includes definitions, test procedures, labeling provisions, energy conservation standards, and the authority to require information and reports from manufacturers. Further, Part A authorizes the Secretary of Energy to prescribe test procedures that are reasonably designed to produce results which measure energy efficiency, energy use, or estimated operating costs, and that are not unduly burdensome to conduct. (42 U.S.C. 6293(b)(3)) The test procedure for residential clothes dryers is contained in Title 10 of the Code of Federal Regulations (10 CFR) part 430, subpart B, appendix D.

The regulations set forth in 10 CFR 430.27 contain provisions that enable a person to seek a waiver from the test procedure requirements for covered consumer products. A waiver will be granted by the Assistant Secretary for Energy Efficiency and Renewable Energy (the Assistant Secretary) if it is determined that the basic model for which the petition for waiver was submitted contains one or more design characteristics that prevents testing of the basic model according to the prescribed test procedures, or if the prescribed test procedures may evaluate the basic model in a manner so unrepresentative of its true energy consumption characteristics as to provide materially inaccurate comparative data. 10 CFR 430.27(l). Petitioners must include in their petition any alternate test procedures known to the petitioner evaluate the basic model in a manner representative of its energy consumption. 10 CFR 430.27(b)(1)(iii). The Assistant Secretary may grant the waiver subject to conditions, including adherence to alternate test procedures. 10 CFR 430.27(l). Waivers remain in effect pursuant to the provisions of 10 CFR 430.27(m).

The waiver process also allows the Assistant Secretary to grant an interim waiver from test procedure requirements to manufacturers that have petitioned DOE for a waiver of such prescribed test procedures. (10 CFR 430.27(a)(2)) An interim waiver remains in effect for a period of 180 days or until DOE issues its determination on the Petition for Waiver, whichever is sooner, and may be extended for an additionally 180 days, if necessary. (10 CFR 430.27(h))

II. Petition for Waiver

On July 14, 2009, GE filed a petition for waiver and an application for interim waiver from the test procedures applicable to its residential clothes dryers set forth in 10 CFR part 430, subpart B, appendix D. GE seeks a waiver from the applicable test procedures for its DCVH480E* and DCVH485E* product models (the two models differ only in color) because, GE asserts, design characteristics of this model prevent testing according to the currently prescribed test procedures, as described in more detail in the following paragraph. DOE previously granted Miele Appliance, Inc. (Miele), a waiver from test procedures for two similar condenser clothes dryer models (T1565CA and T1570C). (60 FR 9330 (Feb. 17, 1995)) DOE also granted waivers for the same type of clothes dryers to LG Electronics (73 FR 66641, November 10, 2008) and Whirlpool Corporation (74 FR 15959, April 8, 2009). GE claims that its condenser clothes dryers cannot be tested pursuant to the DOE procedure and requests that the same waiver granted to other manufacturers be granted for GE's DCVH480E* and DCVH485E* models.

In support of its petition, GE claims that the current clothes dryer test procedures apply only to vented clothes dryers because the test procedures require the use of an exhaust restrictor on the exhaust port of the clothes dryer during testing. Because condenser clothes dryers operate by blowing air through the wet clothes, condensing the water vapor in the airstream, and pumping the collected water into either a drain line or an in-unit container, these products do not use an exhaust port like a vented dryer does. GE plans to market a condensing clothes dryer for situations in which a conventional vented clothes dryer cannot be used, such as high-rise apartments and condominiums; the construction of these types of buildings does not permit the use of external venting.

The GE Petition requests that DOE grant a waiver from existing test procedures to allow the sale of two models (DCVH480E* and DCVH485E*) without testing until DOE prescribes final test procedures and minimum energy conservation standards appropriate to condenser clothes dryers. Similar to the other manufacturers, GE did not include an alternate test procedure in its petition.

III. Application for Interim Waiver

The GE petition also requests an interim waiver for immediate relief. Under 10 CFR 430.27(b)(2) each application for interim waiver “shall demonstrate likely success of the Petition for Waiver and shall address what economic hardship and/or competitive disadvantage is likely to result absent a favorable determination on the Application for Interim Waiver.” An interim waiver may be granted if it is determined that the applicant will experience economic hardship if the application for interim waiver is denied, if it appears likely that the petition for waiver will be granted, and/or the Assistant Secretary determines that it would be desirable for public policy reasons to grant immediate relief pending a determination of the petition for waiver. 10 CFR 430.27(g).

DOE determined that GE's application for interim waiver does not provide sufficient market, equipment price, shipments, and other manufacturer impact information to permit DOE to evaluate the economic hardship GE might experience absent a favorable determination on its application for interim waiver. However, DOE understands that absent an interim waiver, GE's products would not otherwise be tested and rated for energy consumption on a comparable basis with equivalent products for which DOE previously granted waivers. In other words, there would not be a level playing field and thus GE would be placed at a competitive disadvantage. Furthermore, DOE has determined that GE is likely to succeed on the merits of its petition for waiver and that it is desirable for policy reasons to grant immediate relief. DOE has concluded that it is in the public interest to have similar products tested and rated for energy consumption on a comparable basis, where possible. In addition, DOE has previously granted a number of waivers for similar products. DOE previously granted Miele a waiver from the clothes dryer test procedure after determining that it was not applicable to the company's condenser clothes dryers because they lack an exhaust port for mounting the required exhaust restrictor, which is an element of the test procedure. DOE also granted LG a similar waiver for its DLEC733W condenser clothes dryer. (73 FR 66641 (Nov. 10, 2008)) Still more recently, on April 8, 2009, DOE granted an interim waiver to Whirlpool Corporation for a very similar condenser clothes dryer (74 FR 15959).

Therefore, in light of the long-standing waiver granted to Miele, and the recent waivers to LG and Whirlpool, DOE has decided to grant GE's application for Interim Waiver from testing of its condenser clothes dryers. This interim waiver is conditioned upon the presumed validity of statements, representations, and documents provided by the petitioner. DOE may revoke or modify this interim waiver at any time upon a determination that the factual basis underlying the petition for waiver is incorrect, or upon a determination that the results from the alternate test procedure are unrepresentative of the basic models' true energy consumption characteristics.

IV. Summary and Request for Comments

Through today's notice, DOE announces receipt of GE's petition for waiver and grants GE an interim waiver from the test procedures applicable to GE's DCVH480E* and DCVH485E* condensing clothes dryer models. DOE is publishing the GE Petition for Waiver pursuant to 10 CFR 430.27(b)(1)(iv). The petition as published contains no confidential information. DOE is interested in receiving comments on all aspects of the Petition. Pursuant to 10 CFR 430.27(b)(1)(iv), any person submitting written comments to DOE must also send a copy of such comments to the petitioner, whose contact information is included in the ADDRESSES section above.

Issued in Washington, DC on December 8, 2009.
Cathy Zoi,
Assistant Secretary, Energy Efficiency and Renewable Energy.

U.S. Department of Energy

Application for Interim Waiver and Petition for Waiver, 10CFR430, Subpart B, Appendix D—Uniform Test Method for Measuring the Energy Consumption of Clothes Dryers

Case No.

Non-Confidential Version

Submitted by:

Earl F. Jones

Senior Counsel, GE Consumer & Industrial

Appliance Park 2-225

Louisville, KY 40225

earl.f.jones@ge.com

502-452-3164 (voice)

502-452-0395 (fax)

U.S. Department of Energy Application for Interim Waiver and Petition for Waiver, 10CFR430, Subpart B, Appendix D—Uniform Test Method for Measuring the Energy Consumption of Clothes Dryers

Introduction

GE Consumer & Industrial, an operating division of General Electric Co., (“GE”) is a leading manufacturer and marketer of household appliances, including, as relevant to this proceeding, clothes dryers, files this Application for Interim Waiver and Petition for Waiver (“Petition”). GE requests that the Assistant Secretary grant it a waiver from certain parts of the test procedure promulgated by the U.S. Department of Energy (“DOE” or “the Department”) for determining clothes dryer energy consumption on the grounds that the basic design of the product prevents testing in accordance with the prescribed test procedure. This request is filed pursuant to 10 C.F.R. § 430.27.

GE plans to market a clothes dryer to U.S. consumers whose homes cannot accommodate externally vented clothes dryer, e.g., high-rise apartments and condominiums among others. In 2008, the U.S. Market for such products was approximately 50,000.

GE plans to import a 24″ wide compact (4.0 cubic feet) condensing dryer manufactured by ▃▃▃▃▃▃▃▃. This clothes dryer will comply with all recognized United States safety standards. Our marketing plans call for this product to be launched not later than the fourth quarter of 2009.

Need for Relief

The existing test procedure, 10CFR430, Subpart B, Appendix D, was developed for externally vented clothes dryers. The requirement that a specific exhaust restriction be placed on the exhaust port of the dryer during the test cannot be complied with during the testing of condensing clothes dryers, which do not have an exhaust port. Therefore, the existing test procedure is not applicable. Indeed, the Department recognized this lack of applicability in the decision to grant a similar waiver to Miele Appliances, Incorporated (60FR930) and most recently Whirlpool Corp. (75FR15959).

GE hereby requests an Interim Waiver and Waiver that will allow sale of one model without testing under 10 C.F.R., Subpart B. Appendix D until such time as that test procedure has language applicable to condensing clothes dryers. That model will be General Electric brand clothes dryer models DCVH480E*, and DCVH485E*¹.

¹ In the above models, the 0 in model DCVH480E* represents the color white, and the 5 in model DCVH485E represents the color silver. The * would be replaced by a letter depending on the year of manufacture and the other non-energy related identifiers.

Additionally, GE commits to actively support the inclusion of a test procedure applicable to condensing dryers in future versions of 10CFR430, Subpart B, Appendix D and is working with the appliance trade association, the Association of Home Appliance Manufacturers, on a proposal for inclusion in the Department's current clothes dryer energy standards rulemaking.

Thank you for your timely attention to this request for Interim Waiver and Waiver.

Respectfully submitted,

Earl F. Jones, Authorized Representative of GE Consumer & Industrial

CERTIFICATION

I hereby certify that GE has notified all clothes dryer manufacturers listed below known to GE to sell products in the United States and forwarded them a copy of this application:

Alliance Laundry Systems, Inc., BSH Home Appliances Corp. (Bosch-Siemens Hausgerate GmbH), Electrolux Home Products, Fisher & Paykel Appliances, Inc., Haier America Trading, L.L.C., LG Electronics USA INC., Miele Appliances, Inc., Samsung Electronics America, Inc. and Whirlpool Corporation.

In addition, GE has provided courtesy copies to: The Association of Home Appliance Manufacturers (AHAM), which is generally interested in DOE proceedings affecting the industry. ACEEE, NRDC and Alliance to Save Energy are not manufacturers but have an interest in energy efficiency requirements for appliances.

Earl F. Jones

[FR Doc. E9-29782 Filed 12-14-09; 8:45 am]

BILLING CODE 6450-01-P